MISSISSIPPI RIVER COMMISSION

Sunshine Act; Notice of Meetings

Agency Holding the Meetings: Mississippi River Commission.

Time and Date: 7 p.m., August 14, 2006.

Place: On board MISSISSIPPI V at Riverside Park Landing, La Crosse, WI.

Status: Open to the public.

Matters to be Considered: (1) Summary report by President of the Commission on national and regional issues affecting the U.S. Army Corps of Engineers and Commission programs and projects on the Mississippi River and its tributaries; (2) District Commander's overview of current project issues within the St. Paul District; and (3) Presentations by local organizations and members of the public giving views or comments on any issue affecting the programs or projects of the Commission and the Corps of Engineers.

Time and Date: 6:30 p.m., August 15, 2006.

Place: On board MISSISSIPPI V at City Front, Dubuque, IA.

Status: Open to the public.

Matters to be Considered: (1) Summary report by President of the Commission on national and regional issues affecting the U.S. Army Corps of Engineers and Commission programs and projects on the Mississippi River and its tributaries; (2) District Commander's overview of current project issues within the Rock Island District; and (3) Presentations by local organizations and members of the public giving views or comments on any issue affecting the programs or projects of the Commission and the Corps of Engineers.

Time and Date: 9 a.m., August 18, 2006.

Place: On board MISSISSIPPI V at Melvin Price Lock & Dam, Alton, IL.

Status: Open to the public.

Matters to be Considered: (1) Summary report by President of the Commission on national and regional issues affecting the U.S. Army Corps of Engineers and Commission programs and projects on the Mississippi River and its tributaries; (2) District Commander's overview of current project issues within the St. Louis District and; (3) Presentations by local organizations and members of the public giving views or comments on any issue affecting the programs or projects of the Commission and the Corps of Engineers.

Time and Date: 9 a.m., August 21, 2006.

Place: On board MISSISSIPPI V at City Front, New Madrid, MO.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or of the Commission and the Corps of Engineers.

Time and Date: 9 a.m., August 22, 2006.

Place: On board MISSISSIPPI V at Mud island, Memphis, TN.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or of the Commission and the Corps of engineers.

Time and Date: 9 a.m., August 23, 2006.

Place: On board MISSISSIPPI V at City Front, Greenville, MS.

Status: Open to the public.

Matters to be Considered: (1) Summary report by President of the Commission on national and regional issues affecting the U.S. Army Corps of Engineers and Commission programs and projects on the Mississippi River and its tributaries; (2) District Commander's overview of current project issues within the Vicksburg District; and (3) Presentations by local organizations and members of the public giving views or comments on any issue affecting the programs or of the Commission and the Corps of engineers.

Time and Date: 9 a.m., August 25, 2004.

Place: On board MISSISSIPPI V at Cenac Towing Co. Dock, Houma, LA.

Status: Open to the public.

Matters to be Considered: (1) Summary report by President of the Commission on national and regional issues affecting the U.S. Army Corps of Engineers and Commission programs and projects on the Mississippi River and its tributaries; (2) District Commander's overview of current project issues within the New Orleans District; and (3) Presentations by local organizations and members of the public giving views or comments on any issue affecting the programs or of the Commission and the Corps of Engineers.

FOR FURTHER INFORMATION CONTACT: Mr. Stephen Gambrell, telephone 601-634-5766.

Brenda S. Bowen,
Army Federal Register Liaison Officer.

[FR Doc. 06-6194 Filed 7-10-06; 1:21pm]

BILLING CODE 3710-GX-M